DEPARTMENT OF HEALTH AND HUMAN SERVICES

Centers for Disease Control and Prevention

Board of Scientific Counselors, National Center for Injury Prevention and Control: Notice of Charter Amendment

This gives notice under the Federal Advisory Committee Act (Pub. L. 92-463) of October 6, 1972, that the statutory requirements of the Advisory Committee for Injury Prevention and Control (ACIPC) have been transferred to the Board of Scientific Counselors, National Center for Injury Prevention and Control (BSC, NCIPC).

The ACIPC was established on October 18, 1988, in accordance with Public Law 92-463, as amended (5 U.S.C. App. 2). Section 394(a) of the Public Health Service Act, (42 U.S.C. 280b-2(a)), as amended, directed the Secretary, Department of Health and Human Services, acting through the Director, CDC, to establish an advisory committee to provide advice with respect to the prevention and control of injuries. On October 28, 1994, ACIPC was reestablished under statute.

The responsibilities of ACIPC have been assumed by the BSC, NCIPC. By assuming the statutorily mandated responsibilities of ACIPC, the BSC, NCIPC will thereby become a statutorily mandated committee, continuing to serve the purposes set forth by Section 394(a) of the Public Health Service Act.

For information, contact Gwendolyn Cattledge, Ph.D., Executive Secretary, Board of Scientific Counselors, National Center for Injury Prevention and Control, Centers for Disease Control and Prevention, Department of Health and Human Services, 4770 Buford Highway, Mailstop K02, Atlanta, Georgia 30341, telephone (770) 488-4655 or fax (770) 488-4422.

The Director, Management Analysis and Services Office, has been delegated the authority to sign Federal Register notices pertaining to announcements of meetings and other committee management activities, for both the Centers for Disease Control and Prevention and the Agency for Toxic Substances and Disease Registry.

Dated: December 17, 2008.
Elaine L. Baker,
Director, Management Analysis and Services Office, Centers for Disease Control and Prevention.

[FR Doc. E8-31111 Filed 12-30-08; 8:45 am]

BILLING CODE 4163-18-P